DEPARTMENT OF COMMERCE

Foreign-Trade Zones Board

[B-77-2012]

Foreign-Trade Zone 93—Raleigh-Durham, NC; Authorization of Production Activity; Revlon Consumer Products Corporation (Hair Coloring Products); Oxford, NC

On October 10, 2012, Revlon Consumer Products Corporation, the operator of FTZ 93G, submitted a notification of proposed production activity to the Foreign-Trade Zones (FTZ) Board on behalf of Revlon Consumer Products Corporation, within Subzone 93G, in Oxford, North Carolina.

The notification was processed in accordance with the regulations of the FTZ Board (15 CFR part 400), including notice in the Federal Register inviting public comment (77 FR 65856-65857, 10/31/12). The FTZ Board has determined that no further review of the activity is warranted at this time. The production activity described in the notification is authorized, subject to the FTZ Act and the Board's regulations, including Section 400.14.

Dated: February 19, 2013.
Andrew McGilvray,
Executive Secretary.

[FR Doc. 2013-04843 Filed 2-28-13; 8:45 am]

BILLING CODE P